DEPARTMENT OF TRANSPORTATION

Federal Aviation Administration

14 CFR Parts 71

[Docket FAA No. FAA-2013-0529; Airspace Docket No. 13-ANM-17]

Establishment of Class E Airspace; Glasgow, MT

AGENCY: Federal Aviation Administration (FAA), DOT.

ACTION: Final rule; correction.

SUMMARY: This action corrects a final rule published in the Federal Register of September 30, 2013, that establishes Class E airspace at the Glasgow VHF Omni-Directional Radio Range/Distance Measuring Equipment (VOR/DME) navigation aid, Glasgow, MT. A favorable comment from the National Business Aviation Association (NBAA) was received in the public Docket but was not referenced in the Final Rule.

DATES: Effective date: 0901 UTC, December 12, 2013. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

The FAA published a final rule in the Federal Register establishing Class E airspace at the Glasgow VOR/DME navigation aid, Glasgow, MT (78 FR 59807, September 30, 2013). The FAA received a comment in support of the rule from the NBAA for inclusion in FAA Docket No. FAA-2013-0529 prior to the closing of the comment period. However, the preamble incorrectly references that there were no comments to the proposal. This action corrects that statement.

Correction to Final Rule

Accordingly, pursuant to the authority delegated to me, the description under the History heading, as published in the Federal Register of September 30, 2013 (78 FR 59807), Airspace Docket No. 13-ANM-17, FR Doc. 2013-23669, is corrected as follows: On page 59808, column 1, line 4, remove the words “No comments were received.”, and add in their place “One comment was received from the National Business Aviation Association fully supporting the establishment of Class E en route airspace.”.

Issued in Seattle, Washington, on October 30, 2013.
Clark Desing,
Manager, Operations Support Group, Western Service Center.

[FR Doc. 2013-26717 Filed 11-7-13; 8:45 am]

BILLING CODE 4910-13-P